DEPARTMENT OF HEALTH AND HUMAN SERVICES

Administration for Children and Families

President's Committee for People With Intellectual Disabilities; Notice of Meeting

AGENCY: President's Committee for People With Intellectual Disabilities (PCPID).

ACTION: Notice of quarterly meeting.

DATES: Thursday, November 15, 2007, from 2 p.m.-4 p.m. EST. The meeting will be conducted via conference call and will be open to the public using the dial-in information provided below.

ADDRESSES: The conference call may be accessed on the date and time indicated by dialing 888-989-6481, passcode: PCPID.

Agenda: PCPID will meet to formulate an action plan and timeline for completion of the 2008 Report to the President.

FOR FURTHER INFORMATION CONTACT: Sally D. Atwater, Executive Director, President's Committee for People With Intellectual Disabilities, The Aerospace Center, Second Floor, West, 370 L'Enfant Promenade, SW., Washington, DC 20447. Telephone: 202-619-0634, fax: 202-205-9591. E-mail: satwater@acf.hhs.gov.

SUPPLEMENTARY INFORMATION: PCPID acts in an advisory capacity to the President and the Secretary of Health and Human Services on a broad range of topics relating to programs, services and supports for persons with intellectual disabilities. PCPID, by Executive Order, is responsible for evaluating the adequacy of current practices in programs, services and supports for persons with intellectual disabilities, and for reviewing legislative proposals that impact the quality of life experienced by citizens with intellectual disabilities and their families.

Dated: October 3, 2007.
Sally D. Atwater,
Executive Director, President's Committee for People With Intellectual Disabilities.

[FR Doc. E7-20617 Filed 10-18-07; 8:45 am]

BILLING CODE 4184-01-P